ENVIRONMENTAL PROTECTION AGENCY

[EPA-HQ-OPP-2011-0700; FRL-8892-3]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period July 1, 2011 to September 30, 2011, to control unforeseen pest outbreaks.

FOR FURTHER INFORMATION CONTACT: See each emergency exemption or denial for the name of a contact person. The following information applies to all contact persons: Team Leader, Emergency Response Team, Registration Division (7505P), Office of Pesticide Programs, Environmental Protection Agency, 1200 Pennsylvania Ave. NW., Washington, DC 20460-0001; telephone number: (703) 306-0309.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the emergency exemption or denial of interest.

B. How can I get copies of this document and other related information?

EPA has established a docket for this action under docket identification (ID) number EPA-HQ-OPP-2011-0700. Publicly available docket materials are available either electronically at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

EPA has granted or denied emergency exemptions to the following State and Federal agencies. The emergency exemptions may take the following form: Crisis, public health, quarantine, or specific. EPA has also listed denied emergency exemption requests in this notice.

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U.S. States and Territories

California

Environmental Protection Agency, Department of Pesticide Regulation

Crisis: On August 9, 2011, for the post harvest use of sulfur dioxide on figs to control gray mold caused by Botrytis cinerea (B. cinerea); this program will end on December 31, 2011. Contact: Libby Pemberton.

Specific Exemption: EPA authorized the use of lambda-cyhalothrin on asparagus to control aphids; July 12, 2011 to October 31, 2011. Contact: Libby Pemberton.

EPA authorized the use of abamectin on bean, lima, dry to control spider mites; July 6. 2011 to March 31, 2012. Contact: Keri Grinstead.

Florida

Department of Agriculture and Consumer Services

Specific Exemption: EPA authorized the use of hop beta acids in beehives to control varroa mite; August 17, 2011 to December 31, 2011. Contact: Stacey Groce.

Kentucky

Department of Agriculture

Specific Exemption: EPA authorized the use of hop beta acids in beehives to control varroa mite; July 12, 2011 to December 31, 2011. Contact: Stacey Groce.

Louisiana

Department of Agriculture and Forestry

Specific Exemption: EPA authorized the use of dinotefuran on rice to control rice stink bug (Oebalus pugnax); July 12, 2011, to October 30, 2011. Contact: Libby Pemberton.

Nebraska

Department of Agriculture

Denial: On September 12, 2011, EPA denied the use of a product containing the two active ingredients, rimsulfuron and thifensulfuron methyl, to control weeds in chicory cultivation. Contact: Andrea Conrath.

New Jersey

Department of Environmental Protection

Specific Exemption: EPA authorized the use of quinclorac on cranberry to control dodder; July 12, 2011 to December 15, 2011. Contact: Marcel Howard.

Ohio

Department of Agriculture

Specific Exemption: EPA authorized the use of hop beta acids in beehives to control varroa mite; August 15, 2011 to December 31, 2011. Contact: Stacey Groce.

Oregon

Department of Agriculture

Specific Exemption: EPA authorized the use of quinclorac on cranberry to control yellow loosestrife; August 8, 2011 to August 31, 2011. Contact: Marcel Howard.

Utah

Department of Agriculture and Food

Specific Exemption: EPA authorized the use of hop beta acids in beehives to control varroa mite; July 15, 2011 to December 31, 2011. Contact: Stacey Groce.

Washington

Department of Agriculture

Specific Exemption: EPA authorized the use of lambda-cyhalothrin on asparagus to control aphids; July 12, 2011 to September 30, 2011. Contact: Libby Pemberton.

EPA authorized the use of quinclorac on cranberry to control yellow loosestrife; August 8, 2011 to August 31, 2011. Contact: Marcel Howard.

Wyoming

Department of Agriculture

Denial: On September 12, 2011, EPA denied the use of a product containing the two active ingredients, rimsulfuron and thifensulfuron methyl, to control weeds in chicory cultivation. Contact: Andrea Conrath.

B. Federal Departments and Agencies

Department of Defense

U.S. Army Research Institute of Infectious Diseases (USAMRIID)

Quarantine: EPA authorized the use of paraformaldehyde to decontaminate biological containment areas, biological safety cabinets and equipment, and high efficiency particulate air (HEPA) filters in the ventilation system to prevent the release of infectious microorganisms from containment areas; September 27, 2011 to September 27, 2014. Contact: Princess Campbell.

Department of Homeland Security

Batelle National Biodefense Institute (BNBI)

Quarantine: EPA authorized the use of paraformaldehyde to decontaminate microbiological containment areas, biological safety cabinets and equipment, and high efficiency particulate air (HEPA) filters in the ventilation system to prevent the release of infectious microorganisms from containment areas; September 27, 2011 to September 27, 2014. Contact: Princess Campbell.

List of Subjects

Environmental protection, Antimicrobials, Health and safety, Pesticides and pests.

Dated: October 27, 2011.
Lois Rossi,
Director, Registration Division, Office of Pesticide Programs.

[FR Doc. 2011-28940 Filed 11-8-11; 8:45 am]

BILLING CODE 6560-50-P